DEPARTMENT OF THE INTERIOR

U.S. Geological Survey

Agency Information Collection: Comment Request

AGENCY: United States Geological Survey (USGS), Interior.

ACTION: Notice of a new collection.

SUMMARY: To comply with the Paperwork Reduction Act of 1995 (PRA), we are notifying the public that we will submit to OMB a new information collection request (ICR) for review and approval. This notice provides the public an opportunity to comment on the paperwork burden of this collection.

DATES: You must submit comment on or before November 3, 2008.

ADDRESSES: Send your comments to Phadrea Ponds, Information Collections Clearance Officer, U.S. Geological Survey, 2150-C Center Avenue, Fort Collins, CO 80525 (mail); (970) 226-9230 (fax); or pponds@usgs.gov (e-mail). Please reference Information Collection 1028-NEW, LANDSAT.

FOR FURTHER INFORMATION CONTACT: Earlene Swann by mail at U.S. Geological Survey, 2150-C Center Avenue, Fort Collins, CO 80525, or by telephone at (970) 226-9346.

SUPPLEMENTARY INFORMATION: Correction: This notice was originally published on August 21, 2008 Volume 73 number 163 pages 49472-49473. The corrections are as follows: the day to submit comments was incorrect and should have given the public 60 instead of 30 days to respond to this notice.

Title: The Societal Value of Moderate Resolution Satellite Imagery.

OMB Control Number: 1028-new.

Abstract:

USGS Geography investigates some of the most pressing natural resource and environmental issues of our Nation. Observing the Earth with remote sensing satellites, the USGS monitors and analyzes changes on the land, studies connections between people and the land, and provides society with relevant science information to inform public decisions. The USGS's Land Remote Sensing (LRS) Program has initiated a study on the benefits of Landsat imagery. The last comprehensive evaluations of the costs of moderate resolution satellite imagery (such as Landsat) were completed over 30 years ago. This study will attempt to understand the current uses and benefits of the Landsat program. This collection is important because it will provide information that the USGS LRS Program needs to better formulate the Program's new strategic plan.

The information collection process will be conducted by scientists and staff in the Policy Analysis and Science Assistance Branch (PASA) of the USGS. The information collection will be conducted online. The electronic collection will use Dilman's TDM method for Internet Surveys.

We will protect information from respondents considered proprietary under the Freedom of Information Act (5 U.S.C. 552) and its implementing regulations (43 CFR Part 2), and under regulations at 30 CFR 250.197, “Data and information to be made available to the public or for limited inspection.” Responses are voluntary. No questions of a “sensitive” nature are asked.

Frequency of Collection: One time only.

Respondent's Obligation: Voluntary.

Estimated Number and Description of Respondents: 2500 state and local land management officials, scientists, and geographic researchers.

Estimated Number of Responses: 2500 responses.

Annual Burden Hours: 750 hours.

Estimated Annual Reporting and Recordkeeping “Hour” Burden: We estimate the public reporting burden will average 18 minutes per response. This includes the time for reviewing instructions and completing an on-line survey.

Estimated Annual Reporting and Recordkeeping “Non-Hour Cost”: We have not identified any “non-hour cost” burdens associated with this collection of information.

Public Disclosure Statement: The PRA (44 U.S.C. 3501, et seq.) provides that an agency may not conduct or sponsor and you are not required to respond to, a collection of information unless it displays a currently valid OMB control number. Until OMB approves a collection of information, you are not obligated to respond.

Comments: Before submitting an ICR to OMB, PRA section 3506(c) (2) (A) (44U.S.C. 3501, et seq.) requires each agency “* * * to provide notice * * * and otherwise consult with members of the public and affected agencies concerning each proposed collection of information * * *” Agencies must specifically solicit comments. We invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done. To comply with the public process, we publish this Federal Register notice announcing that we will submit this ICR to OMB for approval. The notice provided the required 60 day public comment period.

USGS Information Collection Clearance Officer: Phadrea D. Ponds 970-226-9445.

Dated: August 26, 2008.
D. Bryant Cramer,
Executive Advisor for Land Imaging.

[FR Doc. E8-20490 Filed 9-3-08; 8:45 am]

BILLING CODE 4311-AM-P